INTERNATIONAL TRADE COMMISSION

[Investigation Nos. 337-TA-1004 and 337-TA-990 (consolidated)]

Certain Mobile and Portable Electronic Devices Incorporating Haptics (Including Smartphones and Laptops) and Components Thereof; Commission Determination Not To Review an Initial Determination Terminating the Investigation Based on a Settlement Agreement; Termination of the Investigation

AGENCY: U.S. International Trade Commission.

ACTION: Notice.

SUMMARY: Notice is hereby given that the U.S. International Trade Commission has determined not to review the presiding administrative law judge's (“ALJ”) initial determination (“ID”) (Order No. 75), granting a joint motion to terminate the above-captioned investigation based on a settlement agreement. The investigation is terminated in its entirety.

FOR FURTHER INFORMATION CONTACT: Cathy Chen, Esq., Office of the General Counsel, U.S. International Trade Commission, 500 E Street SW, Washington, DC 20436, telephone (202) 205-2392. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-990 on March 18, 2016, based on a complaint filed by Immersion Corporation of San Jose, California (“Immersion”). 81 FR 14889 (Mar. 18, 2016). The complaint alleged violations of section 337 of the Tariff Act of 1930, as amended (19 U.S.C. 1337), in the importation into the United States, the sale for importation, or the sale within the United States after importation of certain mobile electronic devices incorporating haptics (including smartphones and smartwatches) and components thereof, by reason of infringement of certain claims of U.S. Patent Nos.: 8,773,356; 8,619,051; and 8,659,571. The notice of investigation named as respondents Apple Inc. of Cupertino, California (“Apple”); AT&T Inc. of Dallas, Texas (“AT&T Inc”); and AT&T Mobility LLC of Atlanta, Georgia (“AT&T Mobility”). The Office of Unfair Import Investigations was also named as a party. On May 4, 2016, the Commission issued a notice determining not to review the ALJ's ID terminating the investigation as to respondent AT&T Inc. based upon withdrawal of the complaint.

The Commission instituted Investigation No. 337-TA-1004 on June 9, 2016, based upon another complaint filed by Immersion, alleging a violation of section 337 by Apple and AT&T Mobility by reason of the infringement of certain claims of U.S. Patent Nos.: 8,749,507; 7,808,488; 7,336,260; and 8,581,710. 81 FR 37210 (June 9, 2016). The notice of investigation authorized the Chief Administrative Law Judge to consolidate Investigation Nos. 337-TA-990 and 337-TA-1004 if he deemed it appropriate. Id. at 37211. Thereafter, the Chief Administrative Law Judge determined to consolidate the two investigations. Order No. 3, Inv. No. 337-TA-1004 (June 9, 2016).

On February 9, 2018, the parties filed a joint motion to terminate the investigation based on a settlement agreement reached between Immersion and Apple that resolves the dispute in this investigation. On February 16, 2018, the ALJ issued the subject ID (Order No. 75), granting the motion. The ALJ found that the motion complies with Commission Rules and termination of the investigation will not adversely affect the public interest. No petition for review was filed.

The Commission has determined not to review the subject ID.

The authority for the Commission's determination is contained in section 337 of the Tariff Act of 1930, as amended, 19 U.S.C. 1337, and in Part 210 of the Commission's Rules of Practice and Procedure, 19 CFR part 210.

By order of the Commission.
Issued: March 15, 2018.
Lisa R. Barton,
Secretary to the Commission.

[FR Doc. 2018-05637 Filed 3-20-18; 8:45 am]

BILLING CODE 7020-02-P